DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

PRT-841026

Applicant: Thane Wibbels, University of Alabama at Birmingham, Birmingham, AL

The applicant requests a permit to import up to 1000 blood samples and up to 500 tissue samples taken from Kemp's Ridley sea turtles (Lepidochelys kempii) in Mexico for enhancement of the species through scientific research. This notification covers activities conducted by the applicant over a five year period.

PRT-032758

Applicant: Exotic Feline Breeding Compound, Inc., Rosamond, CA

The applicant requests a permit to import 1 captive-born male Amur leopard (Panthera pardus orientalis) from the Novosibirsk Zoo, Russia for the purpose of propagation for the enhancement of the survival of the species.

PRT-032757

Applicant: Omaha's Henry Doorly Zoo, Omaha, NE

The applicant requests a permit to import 1 captive-born female Sumatran tiger (Panthera tigris sumatrae) from the Surabaya Zoo, Indonesia for the purpose of propagation for the enhancement of the survival of the species.

PRT-031061

Applicant: Susan E. Aronoff, Tampa, FL, 33624

The applicant requests a permit to import 1 captive-born male cheetah (Acinonyx jubatus) from the Endangered Animal Foundation, Driftweg, the Netherlands to enhance the survival of the species through conservation education.

PRT-830414

Applicant: Duke University Primate Center, Durham, NC

The applicant requests re-issuance of a permit to import two male and three female wild-caught golden-crowned sifakas (Propithecus tattersalli) from Dariana, Madagascar for the purpose of propagation for the enhancement of the survival of the species. This notification covers requests for re-issuances of the permit by the applicant over a five year period.

PRT-808256

Applicant: Duke University Primate Center, Durham, NC

The applicant requests re-issuance of a permit to import one male and two female wild-caught diademed sifakas (Propithecus diadema) from the Department of Water and Forest, Maramize, Madagascar for the purpose of propagation for the enhancement of the survival of the species. This notification covers requests for re-issuances of the permit by the applicant over a five year period.

PRT-031796

Applicant: Larry Edward Johnson, Boerne, TX

The applicant requests a permit to export two male and two female captive-born ring-tailed lemurs (Catta lemur) to Munchi's Zoo, Buenos Aires, Argentina to enhance the survival of the species through conservation education and captive propagation.

PRT-026102

Applicant: Elizabeth G. Stone/University of Georgia, Athens, GA

The applicant requests a permit to import salvaged specimens, non-viable eggs, and biological samples from Thick-billed parrots (Rhynchopsitta pachyrhyncha) collected in the wild in Mexico, for scientific research. This notification covers activities conducted by the applicant over the next 5 years.

PRT—033396

Applicant: Wonderland of Grandpa Durova, c/o Estate Agency, Inc, Newark, NJ

The applicant requests a permit to import and re-export two captive born chimpanzees (Pan troglodytes) to/from the United States to enhance the survival of the species through conservation education. This notification covers activities conducted by the applicant over a three year period.

PRT-033421

Applicant: Donald G. Busson, Poway, CA

The applicant requests a permit to import the sport-hunted trophy of one male bontebok (Damaliscus pygargus dorcas) culled from a captive herd maintained under the management program of the Republic of South Africa, for the purpose of enhancement of the survival of the species.

Marine Mammals

The public is invited to comment on the following application for a permit to conduct certain activities with marine mammals. The application was submitted to satisfy requirements of the Marine Mammal Protection Act of 1972, as amended (16 U.S.C. 1361 et seq.) and the regulations governing marine mammals (50 CFR 18).

PRT-032405

Applicant: Larry Martin, New Holland, PA

The applicant requests a permit to import a polar bear (Ursus maritimus) sport-hunted from the M'Clintock Channel polar bear population, Nunavut Territories, Canada for personal use.

Written data or comments should be submitted to the Director, U.S. Fish and Wildlife Service, Division of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: September 18, 2000.
Charlie Chandler,
Chief, Branch of Permits, Division of Management Authority.

[FR Doc. 00-24324 Filed 9-20-00; 8:45 am]

BILLING CODE 4310-55-U